DEPARTMENT OF TRANSPORTATION

Federal Motor Carrier Safety Administration

49 CFR Part 367

[Docket No. FMCSA-2010-0009]

Uniform Carrier Registration Plan Board of Directors; Request for Nominations

AGENCY: Federal Motor Carrier Safety Administration (FMCSA), DOT.

ACTION: Notice Requesting Public Comment on Motor Carrier Industry Nominations to the Board of Directors.

SUMMARY: The FMCSA solicits nominations and applications from interested persons to serve as motor carrier industry representatives on the Board of Directors of the Unified Carrier Registration Plan, which governs the Uniform Carrier Registration Agreement (UCRA), as authorized by the Safe, Accountable, Flexible, Efficient Transportation Equity Act: A Legacy for Users (SAFETEA-LU). The Agency will appoint five members from the motor carrier industry. The UCRA governs the registration and the collection and distribution of fees paid by for-hire and private motor carriers, brokers, freight forwarders, and leasing companies. The UCRA replaced the Single State Registration System (SSRS), which was repealed January 1, 2008.

DATES: Nominations to the Board of Directors must be received on or before February 12, 2010.

ADDRESSES: You may submit comments to this notice, identified by docket number FMCSA-2010-0009, by any of the following methods—Internet, facsimile, regular mail, or hand-deliver.

Federal eRulemaking Portal: Federal Docket Management System (FDMS) Web site at http://www.regulations.gov. The FDMS is the preferred method for submitting comments, and we urge you to use it. In the “Comment” or “Submission” section, type Docket ID Number “FMCSA-2010-0009”, select “Go”, and then click on “Send a Comment or Submission.” You will receive a tracking number when you submit a comment.

Fax: 1-202-493-2251.

Mail, Courier, or Hand-Deliver: U.S. Department of Transportation, Docket Operations (M-30), West Building Ground Floor, Room W12-140, 1200 New Jersey Avenue, SE., Washington, DC 20590. Office hours are between 9 a.m. and 5 p.m., ET, Monday through Friday, except Federal holidays.

Docket: Comments and material received from the public, as well as background information and documents mentioned in this preamble, are part of docket FMCSA-2010-0009, and are available for inspection and copying on the Internet at http://www.regulations.gov. You may also view and copy documents at the U.S. Department of Transportation's Docket Operations Unit, West Building Ground Floor, Room W12-140, 1200 New Jersey Avenue SE., Washington, DC.

Privacy Act: All comments will be posted without change including any personal information provided to the FDMS at http://www.regulations.gov. Anyone can search the electronic form of all our dockets in FDMS, by the name of the individual submitting the comment (or signing the comment, if submitted on behalf of an association, business, labor union, etc.). The Department of Transportation's (DOT) complete Privacy Act Statement was published in the Federal Register on April 11, 2000 (65 FR 19476), and can be viewed at http://docketsinfo.dot.gov. Comments received after the comment closing date will be included in the docket, and we will consider late comments to the extent practicable. FMCSA may, however, issue a final rule at any time after the close of the comment period.

FOR FURTHER INFORMATION CONTACT: Ms. Julie Otto, Office of Enforcement and Program Delivery, (202) 366-0710, FMCSA, Department of Transportation, 1200 New Jersey Ave. SE., Washington, DC 20590 or by e-mail at: FMCSAregs@dot.gov.

Background

Section 4305(b) of SAFETEA-LU [Pub. L. 109-59, 119 Stat. 1144, August 10, 2005] enacted 49 U.S.C. 14504a titled “Unified carrier registration system plan and agreement.” Under the UCRA, motor carriers, motor private carriers, brokers, freight forwarders, and leasing companies register and pay certain fees. The Unified Carrier Registration Plan Board of Directors must issue rules and regulations to govern the UCR. Section 14504a(a)(9) defines the Unified Carrier Registration Plan as the organization of State, Federal, and industry representatives responsible for developing, implementing, and administering the UCRA. Section 14504a(d)(1)(B) directed the Secretary to establish a Unified Carrier Registration Plan Board of Directors made up of 15 members from FMCSA, State government, and the motor carrier industry. The Board also must recommend initial annual fees to be assessed against carriers, leasing companies, brokers, and freight forwarders under the UCRA, as well as any annual adjustments to those fees. Section 14504a(d) stipulates that the Unified Carrier Registration Plan Board of Directors must consist of directors from the following groups:

U.S. Department of Transportation (the Department): One individual, either the FMCSA Deputy Administrator or such other Presidential appointee from the Department, must represent the Department.

Federal Motor Carrier Safety Administration: One director must be selected from each of the FMCSA service areas (as defined by FMCSA on January 1, 2005) from among the chief administrative officers of the State agencies responsible for administering the UCRA.

State Agencies: The five directors selected to represent State agencies must be from among the professional staffs of State agencies responsible for overseeing the administration of the UCRA and must be nominated by the National Conference of State Transportation Specialists (NCSTS), a non-profit organization founded in 1959 and consisting of State agencies involved in transportation safety, insurance and consumer protection.

Motor Carrier Industry: Five directors must be from the motor carrier industry. Today's publication serves as a notice for public comment and recommendations for the five members of the UCRA Board of Directors from the motor carrier industry in accordance with 49 U.S.C. 14504a(d). At least one of the five motor carrier industry directors must be from “a national trade association representing the general motor carrier of property industry” and one of them must be from “a motor carrier that falls within the smallest fleet fee bracket.”

The establishment of the Board was announced in the Federal Register on May 12, 2006 (71 FR 27777). In that notice, the Agency recognized the American Trucking Associations, Inc. (ATA) as the national trade association representing the general motor carrier of property industry. ATA is a national affiliation of State trucking organizations representing the national, State and local interests of the 50 affiliated State trucking associations; and the interests of specialized areas of the trucking industry through conferences and councils. The Agency selected the Owner-Operator Independent Drivers Association (OOIDA) as the organization from which to appoint an individual to represent motor carriers comprising the smallest fleet fee bracket. OOIDA is a national trade association representing the interests of small trucking companies and drivers. The Secretary has discretion to appoint the remaining three industry representatives. In order to ensure participation on the Board by segments of the industry newly subject to the SSRS replacement system, the Secretary previously appointed three members as follows: (1) One member from the Transportation Intermediaries Association (TIA), (2) one member from the National Private Truck Council (NPTC), and (3) one member from Wal-Mart Stores, Inc. (Wal-Mart). TIA represents transportation intermediaries such as brokers, freight forwarders, and shippers doing business in domestic and international commerce. NPTC is a national trade association representing private motor carrier fleets. With nearly 7,000 tractors, over 40,000 trailers, and annual sales over $285 billion, Wal-Mart is the nation's largest private motor carrier.

Each of the five current Directors from the motor carrier industry served an initial term of 3 years. Those terms expired, but the directors continue to serve until their replacements are appointed; each of them may be reappointed (49 U.S.C. 14504a(d)(1)(D)(iii) and (iv)).

Board Member Nominations

FMCSA seeks either nominations of, or expressions of interest from, individuals to serve as members of the board of directors for the UCR Plan from the motor carrier industry. Nominations or expressions of interest should be transmitted by means of the procedures for comments specified earlier in this notice. FMCSA and the Department will make the appointments for the five members from the motor carrier industry for three-year terms, expiring on May 31, 2012.

Issued on: January 15, 2010.
William A. Quade,
Associate Administrator, Enforcement and Program Delivery.

[FR Doc. 2010-1772 Filed 1-27-10; 8:45 am]

BILLING CODE 4910-EX-P